DEPARTMENT OF LABOR

Office of the Secretary

Submission for OMB Review: Comment Request

July 1, 2008.

The Department of Labor (DOL) hereby announces the submission of the following public information collection requests (ICR) to the Office of Management and Budget (OMB) for review and approval in accordance with the Paperwork Reduction Act of 1995 (Pub. L. 104-13, 44 U.S.C. chapter 35). A copy of each ICR, with applicable supporting documentation; including among other things a description of the likely respondents, proposed frequency of response, and estimated total burden may be obtained from the RegInfo.gov Web site at http://www.reginfo.gov/public/do/PRAMain or by contacting Darrin King on 202-693-4129 (this is not a toll-free number)/e-mail: king.darrin@dol.gov.

Interested parties are encouraged to send comments to the Office of Information and Regulatory Affairs, Attn: OMB Desk Officer for the Employment and Training Administration (ETA), Office of Management and Budget, Room 10235, Washington, DC 20503, Telephone: 202-395-7316 / Fax: 202-395-6974 (these are not toll-free numbers), e-mail: OIRA_submission@omb.eop.gov within 30 days from the date of this publication in the Federal Register. In order to ensure the appropriate consideration, comments should reference the OMB Control Number (see below).

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Agency: Employment and Training Administration.

Type of Review: Extension without change of a currently approved collection.

Title: Attestation by Employers Using Crewmembers for Longshore Activities at Locations in the State of Alaska.

OMB Control Number: 1205-0352.

Form Number: ETA 9033-A.

Affected Public: Private Sector—Business or other for-profits.

Estimated Number of Respondents: 20.

Estimated Total Annual Burden Hours: 60.

Estimated Total Annual Costs Burden: $0.

Description: The information provided on the Form ETA 9033-A by employers seeking to use alien crewmembers to perform longshore activities in the State of Alaska permits the Department to meet federal responsibilities for program administration, management, and oversight under § 258 of the Immigration and Nationality Act (8 U.S.C. 1288). For additional information, see related notice published at 73 FR 12219 on March 6, 2008.

Agency: Employment and Training Administration.

Type of Review: Extension without change of a currently approved collection.

Title: Workforce Flexibility (Work-Flex) Program.

OMB Control Number: 1205-0432.

Form Number: None.

Affected Public: State Governments.

Estimated Number of Respondents: 5.

Estimated Total Annual Burden Hours: 960.

Estimated Total Annual Costs Burden: $0.

Description: Governors may request waiver authority from the Secretary of Labor to waive certain provisions of the Workforce Investment Act Title I programs. Applications are submitted to the ETA National Office on behalf of states and local areas to implement reforms of State Workforce Investment systems.

Darrin A. King,
Acting Departmental Clearance Officer.

[FR Doc. E8-15379 Filed 7-3-08; 8:45 am]

BILLING CODE 4510-FP-P